FEDERAL COMMUNICATIONS COMMISSION

Notice of Public Information Collection(s) Being Reviewed by the Federal Communications Commission

January 9, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 20, 2003. If you anticipate that you will be submitting comments, but find it difficult to do so within the period of time allowed by this notice, you should advise the contact listed below as soon as possible.

ADDRESSES: Direct all comments to Judith Boley Herman, Federal Communications Commission, Room 1-C804, 445 12th Street, SW, DC 20554 or via the Internet to jboley@fcc.gov.

FOR FURTHER INFORMATION CONTACT: For additional information or copies of the information collection(s), contact Judith Boley Herman at 202-418-0214 or via the Internet at jboley@fcc.gov.

SUPPLEMENTARY INFORMATION:

OMB Control No.: 3060-0806.

Title: Universal Service—Schools and Libraries Universal Service Program.

Form Nos: FCC Forms 470 and 471.

Type of Review: Revision of a currently approved collection.

Respondents: Business or other for-profit, not-for-profit institutions, state, local and tribal government.

Number of Respondents: 60,000.

Estimated Time Per Response: 4.5 hours.

Frequency of Response: On occasion reporting requirements, third party disclosure requirement and recordkeeping requirement.

Total Annual Burden: 440,000 hours.

Total Annual Cost: N/A.

Needs and Uses: The Commission adopted rules providing support for all telecommunications services, Internet access, and internal connections for all eligible schools and libraries. To participate in the program, schools and libraries must submit a description of the services desired to the Administrator via FCC Form 470. The FCC Form 471 is submitted by schools and libraries that have ordered telecommunications services, Internet access and internal connections. The date is used to determine eligibility. The Commission revised the FCC Form 471 and instructions to make it possible to read with electronic readers, to update references to current deadlines and relevant statutes, and to clarify explanations to make the form generally easier to understand. The information collection requirements remain unchanged.

Federal Communications Commission.
Marlene H. Dortch,
Secretary.

[FR Doc. 03-1205 Filed 1-17-03; 8:45 am]

BILLING CODE 6712-01-P